DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Mental Health Client/Participant Outcome Measures

(OMB No. 0930-0285)—Revision

SAMHSA is requesting approval to add 13 questions to its existing Adult Measure data collection tool, and seven questions to its Child/Caregiver Measure data collection tool, for Center for Mental Health Services (CMHS) grantees. These additional questions are related to specific outcomes for specific grant programs. Grantees will be required to answer no more than four of the new questions, in addition to the existing questions on the data collection instruments. Currently, the information collected from this instrument is entered and stored on SAMHSA's Performance Accountability and Reporting System, which is a real-time, performance management system that captures information on the substance abuse treatment and mental health services delivered in the United States. Continued approval of this information collection will allow SAMHSA to continue to meet Government Performance and Results Modernization Act of 2010 (GPRMA) reporting requirements that quantify the effects and accomplishments of its discretionary grant programs, which are consistent with OMB guidance.

SAMHSA and its Centers will use the data collected for annual reporting required by GPRMA, to describe and understand changes in outcomes from baseline to follow-up to discharge. SAMHSA's report for each fiscal year will include actual results of performance monitoring for the three preceding fiscal years. Information collected through this request will allow SAMHSA to report on the results of these performance outcomes as well as be consistent with SAMHSA-specific performance domains, and to assess the accountability and performance of its discretionary grant programs. The additional information collected through this request will allow SAMHSA to improve its ability to assess the impact of its programs on key outcomes of interest and to gather vital diagnostic information about clients served by CMHS discretionary grant programs.

Changes have been made to add a total of 13 questions to the existing Adult tool, and seven questions to the Child/Caregiver tool. Questions will be selected by SAMHSA based on the specific goals and characteristics of the grant program. The 13 questions added to the Adult tool are:

(1) Behavioral Health Diagnoses—Please indicate patient's current behavioral health diagnoses using the International Classification of Diseases, 10th revision, Clinical Modification (ICD-10-CM) codes listed below.

(2) [For client] In the past 30 days, how often have you taken all of your psychiatric medication(s) as prescribed to you?

(3) [For grantee] In the past 30 days, how compliant has the client been with their treatment?

(4) [For grantee] Did the client screen positive for a mental health or co-occurring disorder?

a. Mental health disorder.

b. Co-occurring disorder.

(i) If client screened positive, was the client referred to the following types of services?

(1) Mental health services.

(2) Co-occurring services.

(ii) If client was referred to services, did they receive the following services?

(1) Mental health services.

(2) Co-occurring services.

(5) [For client] Please indicate the degree to which you agree or disagree with the following statement: Receiving community-based services through the [insert grantee name] program has helped me to avoid further contact with the police and the criminal justice system.

(6) [For client] In the past 30 days, how many times have you:

(i) Been to the emergency room for a physical health care problem?

(ii) Been hospitalized for a physical health care problem?

(7) [For grantee] Please indicate which type of funding source(s) that was (were) used to pay for the services provided to this client since their last interview. (Check all that apply):

(a) Current SAMHSA grant funding.

(b) Other federal grant funding.

(c) State funding.

(d) Client's private insurance.

(e) Medicaid/Medicare.

(f) Other (Specify): ______.

(8) [For client] Did the program provide the following:

(a) HIV test?

(i) If yes, what was the result?

(ii) If result was positive, were you connected to treatment services?

(b) Hepatitis B (HBV) test?

(i) If yes, what was the result?

(ii) If result was positive, were you connected to treatment services?

(c) Hepatitis C (HCV) test?

(i) If yes, what was the result?

(ii) If result was positive, were you connected to treatment services?

(9) [For client if HIV status is positive].

(a) Did you receive a referral from [grantee] to medical care?

(b) Have you been prescribed an antiretroviral medication (ART)?

(i) For clients who report being prescribed an ART: In the past 30 days, how often have you taken your ART as prescribed to you?

(10) [For client] In the past 30 days:

(a) How many times have you thought about killing yourself?

(b) How many times did you attempt to kill yourself?

(11) [For grantee] Has the client experienced a first episode of psychosis (FEP) since their last interview?

(i) If yes, please indicate the approximate date that the client initially experienced the FEP.

(ii) If yes, was the client referred to FEP services?

(iii) If yes, please indicate the first date that the client received FEP services/treatment.

(12) [For client] How often does a member of your team interact with you?

(13) [For client] If the client indicated that they were enrolled in school: During the past 30 days of school, how many days were you absent for any reason?

The seven (7) questions being added to the Child/Caregiver tool are:

(1) Behavioral Health Diagnoses—Please indicate patient's current behavioral health diagnoses using the International Classification of Diseases, 10th revision, Clinical Modification (ICD-10-CM) codes listed below.

(2) [For client] In the past 30 days:

(a) How many times have you thought about killing yourself?

(b) How many times did you attempt to kill yourself?

(3) [For grantee] Please indicate which type of funding source(s) was (were) used to pay for the services provided to this client since their last interview.

(a) Current SAMHSA grant funding.

(b) Other federal grant funding.

(c) State funding.

(d) Client's private insurance.

(e) Medicaid/Medicare.

(f) Other (Specify): ______.

(4) [For client] Please indicate your agreement with the following statement: As a result of treatment and services received, my (my child's) trauma and/or loss experiences were identified and addressed.

(5) [For client] Please indicate your agreement with the following statement: As a result of treatment and services received for trauma and/or loss experiences, my (my child's) problem behaviors/symptoms have decreased.

(6) [For client] Please indicate your agreement with the following statement: As a result of treatment and services received, I (my child has) have shown improvement in daily life, such as in school or with family or friends.

(7) [For grantee] Please provide the following health information:

(a) Systolic blood pressure.

(b) Diastolic blood pressure.

(c) Weight.

(d) Height.

(e) Waist Circumference.

SAMHSA is also seeking approval to increase the number of individuals reporting physical health information in the Adult tool. SAMHSA is requesting approval to extend the collection of some physical health indicators to an additional 5,000 adult clients in SAMHSA grant programs annually, including a sample of clients receiving services from SAMHSA's Certified Community Behavioral Health Clinic Expansion (CCBHC-E) grant program. SAMHSA is also requesting approval to increase the frequency of reporting of physical health data from annually or semi-annually, to quarterly to be consistent with current recommendations for metabolic monitoring.

Table 1—Estimates of Annualized Hour Burden
SAMHSA Tool | Number of respondents | Responses per respondent | Total responses | Hours per response | Total hour burden
Adult client-level baseline interview | 46,121 | 1 | 46,121 | 0.67 | 30,901
Adult client-level 6-month reassessment interview | 30,901 | 1 | 30,901 | 0.67 | 20,704
Adult client-level discharge interview | 13,836 | 1 | 13,386 | 0.67 | 9,270
Child/Caregiver client-level baseline interview | 12,681 | 1 | 12,681 | 0.67 | 8,496
Child/Caregiver client-level 6-month reassessment interview | 8,496 | 1 | 8,496 | 0.67 | 5,692
Child/Caregiver client-level discharge interview | 3,804 | 1 | 3,804 | 0.67 | 2,549
Section H Physical Health Data Baseline | 20,000 | 1 | 20,000 | .25 | 5,000
Section H Physical Health Data Follow-Up | 14,800 | 3 | 44,800 | .25 | 11,100
Section H Physical Health Data Discharge | 10,400 | 1 | 10,400 | .25 | 2,600
Subtotal | 58,802 |  | 190,639 |  | 96,312
Infrastructure development, prevention, and mental health promotion quarterly record abstraction | 982 | 4.0 | 3,928 | 2.0 | 7,856
Total | 59,784 |  | 194,567 |  | 104,168

Written comments and recommendations concerning the proposed information collection should be sent by October 26, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-20887 Filed 9-25-18; 8:45 am]

BILLING CODE 4162-20-P